DEPARTMENT OF COMMERCE

National Oceanic and Atmospheric Administration

[I.D. 092204B]

South Atlantic Fishery Management Council; Public Meeting

AGENCY: National Marine Fisheries Service (NMFS), National Oceanic and Atmospheric Administration (NOAA), Commerce.

ACTION: Notice of South Atlantic Fishery Management Council Internet Mapping Server (ArcIMS) Workshop.

SUMMARY: The South Atlantic Fishery Management Council (Council) will hold a workshop to refine the prototype South Atlantic Fishery Management Council Coral and Benthic Habitats Internet Mapping Server. The workshop will take place in St. Petersburg, FL. See SUPPLEMENTARY INFORMATION.

DATES: The workshop will take place October 13-14, 2004. See SUPPLEMENTARY INFORMATION.

ADDRESSES: The workshop will be held at the Florida Fish and Wildlife Research Institute, 100 Eighth Ave. SE, St. Petersburg, FL, 33701; 727/896-8626; fax: 727/893-2947.

Council address: South Atlantic Fishery Management Council, One Southpark Circle, Suite 306, Charleston, SC 29407-4699.

FOR FURTHER INFORMATION CONTACT: Kim Iverson, Public Information Officer, South Atlantic Fishery Management Council,; telephone: 843/571-4366 or toll free 866/SAFMC-10; fax: 843/769-4520; email: kim.iverson@safmc.net.

SUPPLEMENTARY INFORMATION: The South Atlantic Council ArcIMS Workshop will be conducted from 1 p.m. until 5 p.m. on October 13, 2004 and from 8:30 a.m. until 5 p.m. on October 14,2004. The workshop will focus on an internet mapping server (ArcIMS) being developed by the Council in cooperation with the Florida Fish and Wildlife Research Institute (FWRI). The ArcIMS application is located within the Council's Habitat/Ecosystem website. Workshop participants will review data currently available through the ArcIMS, identify data needs, refine data presentation with emphasis on form, functionality and accessibility. An overall goal of this workshop is to discuss the availability and initiate transfer of data sets applicable to the conservation and management of fishery resources and habitats they depend upon.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) by October 13, 2004.

Dated: September 23, 2004.
Alan D. Risenhoover,
Acting Director, Office of Sustainable Fisheries, National Marine Fisheries Service.

[FR Doc. E4-2401 Filed 9-27-04; 8:45 am]

BILLING CODE 3510-22-S